DEPARTMENT OF COMMERCE

National Oceanic and Atmospheric Administration

RIN 0648-XV39

Endangered and Threatened Species; Take of Anadromous Fish

AGENCY: National Marine Fisheries Service (NMFS), National Oceanic and Atmospheric Administration (NOAA), Commerce.

ACTION: Notice of receipt and request for comment.

SUMMARY: Notice is hereby given that NMFS has received four applications for direct take permits, in the form of Hatchery and Genetic Management Plans (HGMPs) pursuant to the Endangered Species Act of 1973, as amended (ESA); two applications from the Public Utility District No. 1 (PUD) of Chelan County and two from the Public Utility District No. 2 (PUD) of Grant County. The Washington Department of Fish and Wildlife (WDFW) is identified as a co-permit applicant in each of these HGMPs. The duration of each of the proposed Permits is ten (10) years. This document serves to notify the public of the availability for comment of the permit applications. All comments received will become part of the public record and will be available for review pursuant to section 10(c) of the ESA.

DATES: Comments must be received at the appropriate address or fax number (see ADDRESSES) no later than 5:00 p.m. Pacific time on April 23, 2010.

ADDRESSES: Written comments on the application should be sent to Kristine Petersen, National Marine Fisheries Services, Salmon Recovery Division, 1201 N.E. Lloyd Boulevard, Suite 1100, Portland, OR 97232. Comments may also be submitted by e-mail to: WenatcheeHGMPs.nwr@noaa.gov. Include in the subject line of the e-mail comment the following identifier: Comments on Wenatchee HGMPs. Comments may also be sent via facsimile (fax) to (503) 872-2737. Requests for copies of the permit applications should be directed to the National Marine Fisheries Services, Salmon Recovery Division, 1201 N.E. Lloyd Boulevard, Suite 1100, Portland, OR 97232. The documents are also available on the Internet at http://www.nwr.noaa.gov. Comments received will also be available for public inspection, by appointment, during normal business hours by calling (503) 230-5409.

FOR FURTHER INFORMATION CONTACT: Kristine Petersen at (503) 230-5409 or e-mail: kristine.petersen@noaa.gov.

SUPPLEMENTARY INFORMATION:

Species Covered in This Notice

Chinook salmon (Oncorhynchus tshawytscha): endangered, naturally produced and artificially propagated Upper Columbia River spring-run.

Steelhead (O. mykiss): threatened, naturally produced and artificially propagated Upper Columbia River.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

In an application received on October 15, 2009, the Chelan PUD submitted an application to NMFS for an ESA section 10(a)(1)(A) permit for the direct take of ESA listed upper Columbia River spring Chinook salmon from the Chiwawa River in order to carry out an artificial propagation (hatchery) program to enhance the species. The purpose of this program is to mitigate for un-avoidable mortality of upper Columbia River spring Chinook salmon at Rock Island and Rocky Reach Dams as well as to conserve, and ultimately restore the naturally spawning Chiwawa River spring Chinook salmon spawning aggregate, which is part of the Wenatchee population within the Upper Columbia River basin.

In an application received on October 15, 2009, the Chelan PUD submitted an application to NMFS for an ESA section 10(a)(1)(A) permit for the direct take of ESA listed upper Columbia River steelhead from the Wenatchee River in order to carry out an artificial propagation (hatchery) program to enhance the species. The purpose of this program is to mitigate for un-avoidable mortality of upper Columbia River steelhead at Rock Island and Rocky Reach Dams as well as to conserve, and ultimately restore the naturally spawning Wenatchee River steelhead population within the Upper Columbia River basin.

In an application received on February 25, 2010, the Grant PUD submitted an application with an addendum to NMFS for an ESA section 10(a)(1)(A) permit for the direct take of ESA listed upper Columbia River spring Chinook salmon from the Nason Creek in order to carry out an artificial propagation (hatchery) program to enhance the species. The purpose of this program is to mitigate for un-avoidable mortality of spring Chinook salmon at Priest Rapids and Wanapum Dams as well as to conserve, and ultimately restore the naturally spawning Nason Creek spring Chinook salmon spawning aggregate, which is part of the Wenatchee population within the Upper Columbia River basin.

In an application received on February 25, 2010, the Grant PUD submitted an application with an addendum to NMFS for an ESA section 10(a)(1)(A) permit for the direct take of ESA listed upper Columbia River spring Chinook salmon from the White River in order to carry out an artificial propagation (hatchery) program to enhance the species. The purpose of this program is to mitigate for un-avoidable mortality of spring Chinook salmon at Priest Rapids and Wanapum Dams as well as to conserve, and ultimately restore the naturally spawning White River spring Chinook salmon spawning aggregate, which is part of the Wenatchee population within the Upper Columbia River basin.

Authority

This notice is provided pursuant to section 10(c) of the ESA. NMFS will evaluate each application, associated documents, and comments submitted thereon to determine whether the applications meets the requirements of section 10(a)(1)(A) of the ESA. If it is determined that the requirements are met, permits will be issued to the Chelan and Grant PUDs with the WDFW as co-permit holder for the purpose of carrying out the enhancement program. NMFS will publish a record of its final action in the Federal Register.

Dated: March 18, 2010.
Angela Somma,
Chief, Endangered Species Division, Office of Protected Resources, National Marine Fisheries Service.

[FR Doc. 2010-6545 Filed 3-23-10; 8:45 am]

BILLING CODE 3510-22-S